ENVIRONMENTAL PROTECTION AGENCY

[FRL-9629-8]

Notice of Approval of Clean Air Act Outer Continental Shelf Permits Issued to Shell Gulf of Mexico, Inc., and Shell Offshore, Inc. for the Discoverer Drillship

AGENCY: United States Environmental Protection Agency (EPA) Region 10.

ACTION: Notice of Final Action.

SUMMARY: This notice announces that EPA Region 10 has issued two final permit decisions granting Clean Air Act Outer Continental Shelf (OCS) permit applications, one from Shell Gulf of Mexico, Inc., for operation of the Discoverer drillship in the Chukchi Sea and one from Shell Offshore, Inc. (collectively, “Shell”), for operation of the Discoverer drillship in the Beaufort Sea.

DATES: EPA Region 10 issued final permit decisions on the OCS permits for Shell's operation of the Discoverer drillship in the Chukchi and Beaufort Seas on January 27, 2012. The permits also became effective on that date. Pursuant to section 307(b)(1) of the Clean Air Act, 42 U.S.C. 7607(b)(1), judicial review of these final permit decisions, to the extent it is available, may be sought by filing a petition for review in the United States Court of Appeals for the Ninth Circuit within 60 days of February 10, 2012.

ADDRESSES: The documents relevant to the above-referenced permits are available for public inspection during normal business hours at the following address: U.S. Environmental Protection Agency, Region 10, 1200 Sixth Avenue, Suite 900, AWT-107, Seattle, WA 98101. To arrange for viewing of these documents, call Natasha Greaves at (206) 553-7079.

FOR FURTHER INFORMATION CONTACT: Natasha Greaves, Office of Air Waste and Toxics, U.S. Environmental Protection Agency, Region 10, 1200 6th Avenue, Suite 900, AWT-107, Seattle, WA 98101. Anyone who wishes to review the EPA Environmental Appeals Board (EAB) decision described below can obtain it at http://www.epa.gov/eab/.

Notice of Final Action and Supplementary Information: EPA Region 10 issued two final permit decisions to Shell authorizing operation of the Discoverer drillship in the Chukchi and Beaufort Seas, OCS Permit Nos. R10OCS/PSD-AK-09-01 and R10OCS/PSD-AK-2010-01 (collectively, the “Shell Discoverer permits”). The Shell Discoverer permits were initially issued by EPA Region 10 on September 19, 2011. The EPA's Environmental Appeals Board (EAB) received four petitions for review of the Shell Discoverer permits from the following entities: (1) The Inupiat Community of the Arctic Slope (ICAS); ¹ (2) The Native Village of Point Hope, Resisting Environmental Destruction of Indigenous Lands, Alaska Wilderness League, Center for Biological Diversity, Natural Resources Defense Council, Northern Alaska Environmental Center, Ocean Conservancy, Oceana, Pacific Environment, Sierra Club, and the Wilderness Society; (3) Mr. Daniel Lum; and (4) Ms. Donna Arvelo. On January 12, 2012, the EAB dismissed Ms. Arvelo's petition as untimely and denied review of the three other petitions. See In re Shell Gulf of Mexico, Inc. and Shell Offshore, Inc., OCS Appeal Nos. 11-02, 11-03, 11-04 & 11-08 (EAB, Jan. 12, 2011) (Order Denying Review). Following the EAB's action, pursuant to 40 CFR 124.19(f)(1), EPA Region 10 issued final permit decisions on January 27, 2011. All conditions of the Shell Discoverer permits, as initially issued by Region 10 on September 19, 2011, are final and effective.

¹ The Alaska Eskimo Whaling Commission initially joined in the ICAS petition, but later requested to withdraw from the appeal proceeding. The EAB granted its request.

Dated: January 31, 2012.
Richard G. Albright,
Director, Region 10 Office of Air, Waste & Toxics.

[FR Doc. 2012-3160 Filed 2-9-12; 8:45 am]

BILLING CODE 6560-50-P